DEPARTMENT OF COMMERCE

National Oceanic and Atmospheric Administration

[I.D. 012103A]

Proposed Information Collection; Comment Request; Northwest Region Federal Fisheries Permits

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Kevin A. Ford, NOAA Fisheries, Northwest Region, 206-526-6115 or e-mail at kevin.ford@noaa.gov.

SUPPLEMENTARY INFORMATION:

I. Abstract

Two data collections dealing with Federal fishery permits affect participants in the groundfish fishery off Washington, Oregon, and California (WOC). The two data collections involve: (1) exempted fishing; and (2) limited entry permits for commercial fishermen.

Exempted (experimental) fishing permits are issued to applicants for fishing activities that would otherwise be prohibited. The information provided by applications allows the National Marine Fisheries Service (NMFS) to evaluate the consequences of the exempted fishing activity and weigh the benefits and costs. Permittees are required to file reports on the results of the experiments and in some cases individual vessels are required to provide minimal data reports. There is also a requirement for a call-in notification prior to a fishing trip. This information allows NOAA Fisheries to evaluate techniques used and decide if management regulations should be changed.

A Federal permit is required to commercially catch groundfish, and permits are endorsed for one or more of three gear types (trawl, longline, and fish pot). Participation in the fishery and access to permits have been limited as a way of controlling the overall fleet harvest capacity. Limited entry permits must be renewed annually and are transferable. Permit owners must fill out renewal forms annually and must fill out transfer forms, as needed.

II. Method of Collection

Permit applications, renewals, and transfers are made on NOAA Fisheries forms. Renewal of limited entry permits also may be completed electronically using an online form on the Fishery Permit Office Web site. The exempted fishing data reports from individual vessels may be submitted in person, faxed, or submitted by telephone by the vessel owner or operator to NOAA Fisheries or the states of Washington, Oregon, or California.

III. Data

OMB Number: 0648-0203.

Form Number: None.

Type of Review: Regular submission.

Affected Public: Business or other for-profit organizations.

Estimated Number of Respondents: 707.

Estimated Time Per Response: 20 minutes for a limited entry permit renewal or transfer; 60 minutes for an experimental fishery permit application; 60 minutes for an experimental fishery permit summary report; 10 minutes for an experimental fishery data report; and 2 minutes for an experimental fishery call-in notification prior to a fishing trip.

Estimated Total Annual Burden Hours: 341.

Estimated Total Annual Cost to Public: $46,616.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 16, 2003
Gwellnar Banks,
Management Analyst, Office of the Chief Information Officer.

[FR Doc. 03-1646 Filed 1-23-03; 8:45 am]

BILLING CODE 3510-22-S